DEPARTMENT OF THE INTERIOR

U.S. Fish and Wildlife Service

50 CFR Part 17

RIN 1018-AH73

Endangered and Threatened Wildlife and Plants; Re-opening of Comment Period on the Sacramento Splittail Final Rule; Correction

AGENCY: Fish and Wildlife Service, Interior.

ACTION: Final rule; re-opening of comment period; correction.

SUMMARY: The re-opening of the comment period for the final rule on the Sacramento splittail (Pogonichthys macrolepidotus) was published on March 21, 2002. The comment period closing date was incorrectly published as October 15, 2002. The actual closing date is May 20, 2002. Comments previously submitted need not be resubmitted as they will be incorporated into the public record as part of this re-opened comment period, and will be fully considered in the final rule. We are re-opening the comment period to invite comments and to obtain peer review on the statistical analysis completed by us to re-analyze the available splittail abundance data. We are also inviting additional comments on the status of and factors affecting the species, as first solicited in the January 12, 2001 (66 FR 2828), comment period and re-solicited in the May 8, 2001 (66 FR 23181), and August 17, 2001 (66 FR 43145), re-openings of same.

DATES: We will accept public comments until May 20, 2002.

ADDRESSES: Comment Submission: If you wish to comment, you may submit your comments and materials concerning this proposal by any one of several methods:

1. You may submit written comments and information by mail to the Field Supervisor, Sacramento Fish and Wildlife Office, U.S. Fish and Wildlife Service, 2800 Cottage Way, Suite W-2605, Sacramento, California 95825.

2. You may hand-deliver comments to our Sacramento Fish and Wildlife Office, during normal business hours, at the address given above.

3. You may send comments by electronic mail (e-mail) to: fw1splittail@fws.gov. See the Public Comments Solicited section below for file format and other information about electronic filing.

Comments and materials received will be available for inspection, by appointment, during normal business hours at the address under (1) above.

FOR FURTHER INFORMATION CONTACT: For general information, Susan Moore, at the above address (telephone 916/414-6600; facsimile 916/414-6713).

SUPPLEMENTARY INFORMATION: The re-opening of the comment period for the final rule on the Sacramento splittail (Pogonichthys macrolepidotus) was published on March 21, 2002. The comment period closing date was incorrectly published as October 15, 2002. The actual closing date is May 20, 2002. Comments previously submitted need not be resubmitted as they will be incorporated into the public record as part of this re-opened comment period, and will be fully considered in the final rule. We are re-opening the comment period to invite comments and to obtain peer review on the statistical analysis completed by us to re-analyze the available splittail abundance data. We are also inviting additional comments on the status of and factors affecting the species, as first solicited in the January 12, 2001 (66 FR 2828), comment period and re-solicited in the May 8, 2001 (66 FR 23181), and August 17, 2001 (66 FR 43145), re-openings of same.

Public Comments Solicited

We will accept written comments during this re-opened comment period, and comments should be submitted to the Sacramento Fish and Wildlife Office as found in the ADDRESSES section.

Accordingly, in FR Doc. 02-6803 published at 67 FR 13095 on March 21, 2002, on page 13095 in column 2, correct the DATES caption to read as follows:

DATES: We will accept public comments until May 20, 2002.

Dated: March 26, 2002.
Steve Williams,
Director, Fish and Wildlife Service.

[FR Doc. 02-7882 Filed 3-29-02; 8:45 am]

BILLING CODE 4310-55-P